COMMISSION ON CIVIL RIGHTS

Agenda and Notice of Public Meeting of the West Virginia Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the West Virginia Advisory Committee to the Commission will convene at 10:00 a.m. EDT on Friday, June 26, 2015, by teleconference. The purpose of the meeting is to discuss plans for a future public briefing meeting on the civil rights concerns under the Americans with Disabilities Act (ADA) about the treatment of persons with mental health disabilities in the West Virginia Criminal Justice System and West Virginia Mental Health Court.

Interested members of the public may listen to the discussion by calling the following toll-free conference call number 1-888-510-1765 and conference call code: 8558900#. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number.

Persons with hearing impairments may also follow the discussion by first calling the Federal Relay Service at 1-800-977-8339 and providing the operator with the conference call number 1-888-510-1765 and conference call ID code 8558900#.

Members of the public are invited to submit written comments; the comments must be received in the regional office by Monday, July 27, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=2681 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

Welcome and Introductions

Tara Martinez, Vice Chair

Discuss Plans for Future Briefing Meeting

WV State Advisory Committee

Administrative Matters

Ivy L. Davis, DFO

DATES: Friday, June 26, 2015 at 10:00 a.m. (EDT).

ADDRESSES: The meeting will be held via teleconference:

Conference Call-in Number: 1-888-510-1765; Conference Call ID code: 8558900#.

TDD: Dial Federal Relay Service 1-800-977-8339 and give the operator the above

Conference Call-in number and Conference Call ID code.

FOR FURTHER INFORMATION CONTACT: Ivy L. Davis at ero@usccr.gov, or 202-376-7533.

Dated: Friday, June 5, 2015.
David Mussatt,
Chief, Regional Programs Unit.

[FR Doc. 2015-14237 Filed 6-10-15; 8:45 am]

BILLING CODE 6335-01-P